NATIONAL CRIME PREVENTION AND PRIVACY COMPACT COUNCIL

National Fingerprint File Qualification Requirements

AGENCY: National Crime Prevention and Privacy Compact Council.

ACTION: Notice of approval of the National Fingerprint File (NFF) Qualification Requirements as the standards for NFF participation.

Authority: 42 U.S.C. 14616.

SUMMARY: Pursuant to Title 42, United States Code, section 14616, Article VI(e), and Title 28, Code of Federal Regulations (CFR), chapter IX, the Compact Council (Council), established by the National Crime Prevention and Privacy Compact (Compact) Act of 1998, approved the attached NFF Qualification Requirements as the standards for NFF participation (see proposed rule “Qualification Requirements for Participation in the National Fingerprint File Program,” published in today's Federal Register, which is to be codified at 28 CFR 905). The Council coordinated the development of the NFF Qualification Requirements with the Federal Bureau of Investigation's Criminal Justice Information Services (CJIS) Division staff and forwarded the document to the CJIS Advisory Policy Board for its endorsement prior to publication. Hereafter, the most current version of the NFF Qualification Requirements will be available upon request to the Compact Council Office, 1000 Custer Hollow Road, Module C3, Clarksburg, WV 26306, Attention: FBI Compact Officer. Interested parties should contact the Compact Council Office to request the most current version prior to utilizing the requirements document.

FOR FURTHER INFORMATION CONTACT: Todd C. Commodore, FBI CJIS Division, 1000 Custer Hollow Road, Module C3, Clarksburg, WV 26306; Telephone (304) 625-2803; e-mail tcommodo@leo.gov; fax number (304) 625-5388.

SUPPLEMENTARY INFORMATION: Since both the FBI and Compact Party States are to participate in the NFF Program and each has its unique system and responsibilities as outlined in the Compact, two sets of NFF Qualification Requirements were developed. One set applies to the requirements for the FBI's participation and the second for a Compact Party State's participation. The requirements are set forth as follows:

FBI NFF Qualification Requirements

I. Fingerprint Identification Matters

A. The FBI shall establish and maintain a National Fingerprint File (NFF) of criterion ¹ offenses provided by criminal justice agencies.

¹ If 28 CFR is amended to permit the inclusion of all fingerprint-based arrests into the III System, these qualification requirements shall be amended accordingly.

B. The FBI shall maintain a National Identification Index consisting of names, identifying numbers, and other descriptive information relating to record subjects about whom there are criminal history records in the Interstate Identification Index (III) System.

C. The FBI shall also maintain the NFF consisting of a database of fingerprints, or other uniquely personal identifying information, relating to an arrested or charged individual to provide positive identification of record subjects indexed in the III System.

D. The FBI shall accept state requests for a criminal history record check of the national indices, when such requests are made under an approved state statute. Such requests shall be submitted only through the state central criminal history record repository.

E. The FBI shall accept Federal requests for criminal history record checks of the national indices, when such request are made under Federal authority. Said requests shall be submitted through the FBI or, if the state consents to process a Federal agency's fingerprint submissions, through the state central criminal history record repository as coordinated with the FBI.

F. The FBI shall inform the state central criminal history record repository or Federal agency when original fingerprint impressions provided to the FBI are not of sufficient quality to establish a subject's record and request that additional fingerprint impressions be forwarded to the FBI.

G. For each offender, the NFF shall maintain one full set of fingerprint impressions ² to support the establishment of the subject's record for a NFF participating state.

² Fingerprint impressions are the subject's fingerprints in the Criminal Master File, which contain ten rolled and four plain impressions, and may be a composite of the “best” images taken from several sources (i.e., arrest, civil, probation, corrections, court fingerprints, etc.). The source document (impression) must be available to support any image replacement in the master file.

H. The master fingerprint impressions maintained at the FBI shall include all ten fingers, noting amputation(s), scars, or missing fingers.

I. The FBI will not accept or maintain additional fingerprint submissions to support subsequent individual arrest events pertaining to a subject's record maintained by the NFF participating state.

J. The FBI shall maintain fingerprint submissions for criterion offenses from NFF participating states that have a unique State Identification Number (SID) for each individual and shall maintain only those fingerprint submissions that contain a SID not previously submitted from the NFF participating states to establish a NFF record.

K. The FBI shall not maintain multiple SIDs for the same individual from the same state due to missed identifications.

L. Fingerprint submissions containing an SID previously submitted by a NFF state to establish a NFF record shall be returned to the state central criminal history record repository for correction.

M. The FBI shall send electronic messages via Criminal Justice Information Services telecommunications network(s) to the NFF participating state regarding the results of the FBI's fingerprint processing for subjects arrested for the first time; the NFF participating state may elect to receive electronic messages regarding applicant fingerprint submissions. ³

³ There are three options presently available for receiving responses for applicant processes. The state may utilize: The electronic unsolicited III messages reporting the results of applicant fingerprint processing ($.A.CFN, $.A.CFR); the Integrated Automated Fingerprint Identification System (IAFIS) Submission Results—Electronic (SRE) response which provides the identification results as communicated over the CJIS Wide Area Network; or the IAFIS System Type of Transaction which generates a manual response to an electronic fingerprint submission (NFFC).

II. Record Content and III Maintenance

A. The FBI shall provide assistance to the NFF participating state central criminal history record repositories for identifying and correcting record discrepancies. FBI staff shall provide timely assistance so that the state may resolve record discrepancies within 90 calendar days of receiving the synchronization tape from the FBI.

B. The FBI shall update the National Identification Index and the NFF in a timely manner to assure record completeness and accuracy.

C. Upon receipt of a NFF participating state's Criminal Print Ident (CPI) message, the FBI will advise the appropriate agency ⁴ of the subject's current arrest status.

⁴ Appropriate agency includes the agency that entered the want on the individual and/or the agency that registered the individual in the sex offender file.

D. The FBI shall provide the NFF state central criminal history record repository a means to electronically update the National Identification Index with supplemental identifiers not previously recorded (i.e., scars, marks, tattoos, dates of birth, Social Security numbers, miscellaneous numbers, and aliases).

E. The FBI shall evaluate fingerprint submissions for image quality and feature vectors. The Criminal Master File will be updated if the new fingerprint impressions are of a better quality than the master fingerprint.

F. The FBI shall conduct file maintenance such as record corrections and expungements in a timely manner and notify the NFF participating state central criminal history record repository of the corresponding state record maintenance. The FBI shall conduct consolidations within two (2) business days of notification; other file maintenance shall be conducted within seven (7) business days of notification.

III. Record Response

A. The FBI III System shall have sufficient capability to provide a normal on-line record response time ⁵ of ten (10) minutes or less.

⁵ Normal record response time should be measured from the receipt of the incoming III on-line record request (QR) until the FBI transmits its portion of the III record to the requesting agency (CR) and notifies all other III/NFF state(s) which maintain a portion of the record ($.A.CHR).

B. The FBI shall respond to III on-line record requests electronically, providing the FBI's portion of a subject's record to include a listing of all other III/NFF state record holders. The FBI shall electronically notify the III/NFF state(s) to send its portion of the record to the requesting agency.

C. The FBI shall, upon positive identification of the record subject, electronically request the indexed NFF portion(s) of the criminal history record, noting the authorized purpose for the record request. Upon receipt of the NFF state record response, the FBI shall append all portions of the subject record and provide the record to the authorized requesting agency(ies).

D. When the FBI's III System cannot provide on-line record responses within ten (10) minutes, experienced personnel shall be available as necessary to assist with problem resolutions and to restore the FBI III System capacity, allowing timely on-line responses.

E. The FBI shall provide criminal history records (those records for which the FBI has assumed responsibility) for all authorized purpose codes via III for both criminal justice purposes and noncriminal justice purposes as authorized by Federal statute, Federal Executive Order, or a State statute that has been approved by the Attorney General.

F. The FBI shall disseminate records (containing NFF participating state(s) data received by means of the III System) for all authorized purpose codes for both criminal justice purposes and noncriminal justice purposes as authorized by Federal statute, Federal Executive Order, or a state statute that has been approved by the Attorney General.

IV. Accountability

A. The FBI Compact Officer shall be responsible for ensuring that Compact provisions and rules, procedures, and standards prescribed by the Council are complied with by the FBI.

B. The FBI shall have written procedures requiring thorough testing of upgrades or modifications to its computer system(s) to detect software errors and/or related procedural problems, particularly on-line testing of these changes to limit adverse effects to the NFF system operations. The FBI shall demonstrate adherence to the procedures by documenting the test results in writing.

State NFF Qualification Requirements

In order to participate in the NFF, a state must first be capable of III participation. A state which joins the NFF subsequent to the enactment of the National Crime Prevention and Privacy Compact Act of 1998 must be a signatory to the Compact. The following NFF Qualification Requirements are written to include and augment the minimum standards for III participation.

I. Fingerprint Identification Matters

A. A NFF state shall maintain a central criminal history record repository with full technical fingerprint search capability. A NFF state shall perform technical searches ¹ on both applicant and criminal fingerprint impressions prior to their submission to the FBI. When an individual is identified at the state level as having records previously indexed in the National Identification Index, the NFF state shall notify the contributor of the search results and provide the criminal history record information if requested on the fingerprint submission.

¹ A technical search may consist of a name search with candidate verification by fingerprint comparison; short of that, a manual or AFIS search of the state master fingerprint file is required.

B. A NFF state shall collect and maintain any appropriate criminal history record information, including dispositions, sealing orders, and expungements, relevant to each offender and the records maintained by that state.

C. A NFF state's central criminal history record repository shall serve as the sole conduit for the transmission of non-federal applicant ² and criminal fingerprint impressions ³ for criterion offenses ⁴ within the state to the FBI (single source submission).

² A state may also at its discretion consent to process federal applicant fingerprint submissions through the repository in which such request originated. See Compact Article V(c).

³ Criminal fingerprint impression may include a fingerprint submission that supports or is linked to an arrest event (i.e., includes corrections fingerprints).

⁴ If 28 CFR is amended to permit the inclusion of all fingerprint-based arrests into the III System, these qualification requirements shall be amended accordingly.

D. The total percentage of FBI Integrated Automated Fingerprint Identification System (IAFIS) rejects due to low image quality on criminal fingerprint submissions shall be less than 0.5% of the total criminal fingerprint submissions. The total percentage of service provider rejects due to insufficient, indiscernible, erroneous or incomplete criminal fingerprint image submissions shall be less than 5%.

E. A NFF state shall not forward criminal fingerprint impressions nor related information for individuals identified at the state level as having records previously indexed in the National Identification Index as NFF records with the State Identification Number (SID). Errors resulting from forwarding fingerprint submissions for previously indexed NFF records shall be less than 2% of the total criminal fingerprint submissions.

F. A NFF state participant shall continue submitting criminal fingerprint impressions for criterion offenses and related information for individuals for whom primary identification records were established by the FBI prior to the state's becoming a NFF participant and which are not identified by SIDs in the National Identification Index by the state or are FBI non-automated identification records (i.e., the state has not taken responsibility for managing or controlling the III record).

G. Criminal fingerprint impressions shall be forwarded to the FBI within two (2) weeks of receipt at the state central criminal history record repository.

H. A NFF state's central criminal history record repository shall maintain the subject's fingerprint impressions, or copies thereof, to support each Indexed record and shall maintain fingerprint impressions, or copies thereof, supporting each arrest event in each such criminal history record.

I. The master fingerprint impressions maintained at the state central criminal history record repository shall include all ten fingers, noting amputation(s), scars, or missing fingers.

J. Additional/(subsequent) criminal fingerprint impressions maintained at the state central criminal history record repository to support individual arrest events may include less than all ten fingers.

K. A NFF state shall submit to the FBI criminal fingerprint impressions containing a unique SID for each individual. The number of fingerprint submissions that contain non-unique SIDs shall be less than 0.25% of the total criminal fingerprint submissions.

L. Missed identifications by the state's central criminal history record repository resulting in the issuance of multiple SIDs for the same individual shall be less than 2% of total criminal fingerprint submissions.

M. The state shall ensure that a SID is on each criminal fingerprint impression not identified at the state level and submitted to the FBI for establishment of a NFF record.

N. In those instances when the applicant or criminal fingerprint submission includes a request for the rapsheet and/or the results of the search, a NFF state shall either receive and forward electronic messages concerning the results of FBI fingerprint impression processing to its fingerprint contributors or shall print and mail these results.⁵

⁵ There are three options presently available for receiving responses for applicant processes. The state may utilize: The electronic unsolicited III messages reporting the results of applicant fingerprint processing ($.A.CFN, $.A.CFR); the IAFIS Submission Results (SRE) response which provides the identification results as communicated over the CJIS Wide Area Network; or the IAFIS System Type of Transaction which generates a manual response to an electronic fingerprint submission (NFFC).

II. Record Content and III Maintenance

A. For each NFF record maintained, the state's central criminal history record repository shall contain all known fingerprint-based arrests, final dispositions and custody/supervision actions occurring in that state which are reported to the state central criminal history record repository pursuant to applicable federal or state law.

B. A NFF state shall remove the SID from a III record when corresponding record data no longer exists at the state level.

C. A NFF state shall conduct an audit of III record synchronization with the FBI at least twice a year to identify, analyze, and correct record discrepancies within 90 calendar days of audit tape receipt from the FBI. A NFF state shall maintain the discrepancy reports resulting from the last two (2) synchronization tapes.

D. Record completeness, accuracy, and timeliness shall be considered by a NFF state to be of primary importance and shall be maintained at the highest level possible.

E. When a second and/or subsequent criminal fingerprint submission is identified with an Indexed record by a NFF state, the state shall send an electronic Criminal Print Ident (CPI) message to the FBI, no later than 24 hours after the arrest is posted within the state's central criminal history record system.

F. A NFF state shall add supplemental identifiers to Indexed records when a second and/or subsequent criminal fingerprint impression is identified by the state and contains identifiers not previously recorded.

G. Supplemental identifiers which shall be added to the National Identification Index include scars, marks, tattoos, dates of birth, Social Security numbers, miscellaneous numbers, and aliases, obtained after establishment of an offender's primary identification record by the FBI.

H. A NFF state shall submit criminal fingerprint impressions to the FBI for second and/or subsequent criterion offenses if these fingerprint impressions show new amputations or new permanent scars.

I. NFF states shall submit ten-finger fingerprint impressions to the FBI as they become available when second and/or subsequent offenses yield improved image quality fingerprint impressions.

J. Required record file maintenance shall be conducted by NFF state personnel based upon receipt of unsolicited file maintenance messages from the FBI via the III interface. Unsolicited file maintenance messages may include advisories of state/FBI missed identifications or expungements of the state SID. The state shall conduct consolidations within two (2) business days of notification; other file maintenance shall be conducted within seven (7) business days of notification.

III. Record Response

A. A NFF state's automated criminal history record system shall have sufficient capability to provide a normal on-line record response time of ten (10) minutes or less.

B. A NFF state shall respond within ten (10) minutes to III record requests via the National Law Enforcement Telecommunications Systems (NLETS) with the record or an acknowledgment and a notice of when the record will be provided.

C. When a NFF state's system cannot provide on-line record responses within ten (10) minutes, the state shall assign personnel as necessary to resolve record processing problems and to restore the system's capacity to provide timely on-line responses.

D. NFF state record responses shall include literal translations of all alphabetic and/or numeric codes in order that the record responses can be readily understood.

E. A NFF state shall not include in its III record response any out-of-state and/or federal criminal history record information maintained in its files.

F. A NFF state's central criminal history record repository shall provide its indexed criminal history records in response to all authorized requests made through the NFF and III for criminal justice purposes and, when based on positive identification ⁶, for noncriminal justice purposes as authorized by the Compact.

⁶ Responses to III name-based searches are permitted for noncriminal justice purposes utilizing purpose code “X” under the Compact Council Fingerprint Submission Requirements Rule.

G. In responding to a III record request for a noncriminal justice purpose, a NFF state shall provide the entire record it maintains on the record subject, except for information that is sealed in accordance with the definition of “Sealed Record Information” set out in Art. I (21) of the Compact.

IV. Accountability

A. In NFF states that have ratified the National Crime Prevention and Privacy Compact, the Compact Officer shall be responsible for ensuring compliance with these qualification requirements.⁷

⁷ This requirement is inherent in the Compact itself as stated in Article III(b)(1)(B) that the state Compact Officer shall ensure that Compact provisions and rules, procedures, and standards established by the Council under Article VI are complied with.

B. In the event a state ceases to participate in the NFF for any reason, the state shall reasonably assist the FBI in reconstructing any fingerprint and arrest/disposition record deficiencies that otherwise would have been submitted to the FBI during the state's NFF participation.

C. A NFF state shall have written procedures requiring thorough testing of upgrades or modifications to its computer system(s) to detect software errors and/or related procedural problems, particularly on-line testing of these changes to limit adverse effects to the NFF system operations. A NFF state shall demonstrate adherence to the procedures by documenting the test results in writing.

Dated: May 12, 2005.
Donna M. Uzzell,
Compact Council Chairman.

[FR Doc. 05-12329 Filed 6-21-05; 8:45 am]

BILLING CODE 4410-02-P